DEPARTMENT OF COMMERCE

International Trade Administration

A-570-846

Brake Rotors From the People's Republic of China: Extension of Time Limit for Preliminary Results of the Antidumping Duty Administrative Review

AGENCY: Import Administration, International Trade Administration, Department of Commerce.

EFFECTIVE DATE: March 2, 2009

FOR FURTHER INFORMATION CONTACT: Brian Smith or Terre Keaton Stefanova, AD/CVD Operations, Office 2, Import Administration, International Trade Administration, U.S. Department of Commerce, 14th Street and Constitution Avenue, N.W., Washington, DC 20230; telephone; (202) 482-1766 or (202) 482-1280, respectively.

Background

On June 4, 2008, the Department of Commerce (the Department) published in the Federal Register a notice of initiation of the administrative review of the antidumping duty order on brake rotors from the People's Republic of China (PRC) covering the period April 1, 2007, through March 31, 2008. See Initiation of Antidumping and Countervailing Duty Administrative Reviews and Requests for Revocation in Part, 73 FR 31813 (June 4, 2008).

On December 18, 2008, we extended the preliminary results deadline from December 31, 2008, to March 2, 2009. See Brake Rotors From the People's Republic of China: Notice of Extension of Time Limit for Preliminary Results of the Antidumping Duty Administrative Review, 73 FR 77004 (December 18, 2008).

Statutory Time Limits

Section 751(a)(3)(A) of the Tariff Act of 1930, as amended (the Act), requires the Department to make a preliminary determination in an administrative review within 245 days after the last day of the anniversary month of an order or finding for which a review is requested. If it is not practicable to complete the review within this time period, section 751(a)(3)(A) of the Act allows the Department to extend this deadline to a maximum of 365 days after the last day of the anniversary month.

Extension of Time Limit for Preliminary Results

We determine that it is not practicable to complete the preliminary results of this review within the original time limit because the Department requires additional time to examine separate rate issues in this administrative review.

Therefore, the Department is extending the time limit for completion of the preliminary results from 306 days to 320 days, in accordance with section 751(a)(3)(A) of the Act. The preliminary results are now due no later than March 16, 2009. The final results continue to be due 120 days after the publication of the preliminary results.

We are issuing and publishing this notice in accordance with section 751(a)(3)(A) of the Act and 19 CFR 351.213(h)(2).

Dated: March 2, 2009.
John M. Andersen,
Acting Deputy Assistant Secretary for Antidumping and Countervailing Duty Operations.

[FR Doc. E9-4804 Filed 3-5-09; 8:45 am]

BILLING CODE 3510-DS-S